DEPARTMENT OF HOMELAND SECURITY

Federal Emergency Management Agency

[Docket ID FEMA-2021-0002; Internal Agency Docket No. FEMA-B-2075]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 12, 2021.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2075, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security,Federal Emergency Management Agency.

Community | Community map repository address
Imperial County, California and Incorporated Areas
Project: 18-09-0018S Preliminary Date: August 31, 2020
Unincorporated Areas of Imperial County | Imperial County Planning and Development Services, 801 Main Street, El Centro, CA 92243.
Riverside County, California and Incorporated Areas
Project: 18-09-0018S Preliminary Date: August 31, 2020
Unincorporated Areas of Riverside County | Riverside County Flood Control and Water Conservation District, 1995 Market Street, Riverside, CA 92501.
San Diego County, California and Incorporated Areas
Project: 18-09-0018S Preliminary Date: August 31, 2020
Unincorporated Areas of San Diego County | Department of Public Works Flood Control, 5510 Overland Avenue, Suite 410 MS 0326, San Diego, CA 92123.
Arenac County, Michigan (All Jurisdictions)
Project: 14-05-2549S Preliminary Date: November 14, 2019
City of Au Gres | City Hall, 124 West Huron Road, Au Gres, MI 48703.
Township of Arenac | Arenac Township Hall, 2596 Arenac State Road, Standish, MI 48658.
Township of Au Gres | Township Hall, 1865 South Swenson Road, Au Gres, MI 48703.
Township of Sims | Sims Township Office, 4489 East Huron Road, Au Gres, MI 48703.
Township of Standish | Township Hall, 4997 Arenac State Road, Standish, MI 48658.
Township of Whitney | Whitney Township Hall, 1515 North Huron Road, Tawas City, MI 48763.
Iosco County, Michigan (All Jurisdictions)
Project: 14-05-2537S Preliminary Date: April 30, 2020
City of East Tawas | East Tawas Community Center, 760 Newman Street, East Tawas, MI 48730.
City of Tawas City | City Hall, 550 West Lake Street, Tawas City, MI 48764.
Township of Alabaster | Alabaster Township Hall, 1716 South U.S. 23, Tawas City, MI 48763.
Township of Au Sable | Township Hall, 4420 North U.S. 23, Au Sable, MI 48750.
Township of Baldwin | Baldwin Township Hall, 1119 Monument Road, Tawas City, MI 48763.
Township of Oscoda | Iosco County Public Safety Building, 1808 North U.S. 23, East Tawas, MI 48730.
Rice County, Minnesota and Incorporated Areas
Project: 12-05-2135S Preliminary Date: November 15, 2019
City of Faribault | City Hall, Council Chambers, 208 First Avenue Northwest, Faribault, MN 55021.
City of Nerstrand | City Hall, 221 Main Street, Nerstrand, MN 55053.
Township of Bridgewater | Bridgewater Township Hall, 500 Railway Street South, Dundas, MN 55019.
Unincorporated Areas of Rice County | Rice County Government Services Building, 320 Northwest Third Street, Faribault, MN 55021.
Logan County, Ohio and Incorporated Areas
Project: 11-05-1562S Preliminary Date: May 29, 2020
Unincorporated Areas of Logan County | Logan County Office Building, 100 South Madriver Street, Bellefontaine, OH 43311.
Village of Lakeview | Lakeview Municipal Building, 126 North Main Street, Lakeview, OH 43331.
Village of Russells Point | Logan County Office Building, 100 South Madriver Street, Bellefontaine, OH 43311.

[FR Doc. 2021-00399 Filed 1-11-21; 8:45 am]

BILLING CODE 9110-12-P